DEPARTMENT OF AGRICULTURE

Federal Crop Insurance Corporation

7 CFR Parts 407 and 457

[Docket ID FCIC-20-0008]

RIN 0563-AC70

Area Risk Protection Insurance Regulations; Common Crop Insurance Policy Basic Provisions; Common Crop Insurance Regulations, Sunflower Seed Crop Insurance Provisions; and Common Crop Insurance Regulations, Dry Pea Crop Insurance Provisions

Correction

In rule document 2020-26036, beginning on page 76420 in the issue of Monday, November 30, 2020, make the following changes:

§ 457.108 [Corrected]

On page 76427, in § 457.108, in the third column, in the fourth and fifth lines from the bottom,

“▪ 5. Cancellation and Termination Dates.” should read “4. Cancellation and Termination Dates.”

[FR Doc. C1-2020-26036 Filed 12-10-20; 8:45 am]

BILLING CODE 1301-00-D